DEPARTMENT OF ENERGY

Federal Energy Regulatory Commission

[Docket No. CP02-53-000]

National Fuel Gas Supply Corporation, Dominion Transmission, Inc.; Notice of Application

December 28, 2001.

Take notice that on December 13, 2001, National Fuel Gas Supply Corporation (National Fuel), 10 Lafayette Square, Buffalo, New York 14203 and Dominion Transmission, Inc. (Dominion), 445 West Main Street, Clarksburg, West Virginia 26301, filed a joint application pursuant to section 7 of the Natural Gas Act and part 157 of the Commission's rules and regulations for a certificate of public convenience and necessity to construct and operate facilities that will increase capacity on the jointly-owned Ellisburg, Pennsylvania to Leidy, Pennsylvania pipeline (Ellisburg-Leidy Line) all as more fully set forth in the application which is on file with the Commission and open to public inspection. Copies of this filing are on file with the Commission and are available for public inspection. This filing may also be viewed on the web at http://www.ferc.gov using the “RIMS” link, select “Docket#” and follow the instructions (call 202-208-2222 for assistance).

Specifically, the applicants seek authorization to: (1) Install a new 8,010 horsepower compressor unit at National Fuel's Ellisburg Compressor Station in Potter County, Pennsylvania, (2) uprate the maximum allowable operating pressure of the jointly-owned pipeline (downstream of the Ellisburg Compressor Station) above the current level of 1405 psig, and (3) modify the Leidy M&R Station in Clinton County, Pennsylvania. The applicants state that these facility additions would allow an additional 150,000 Dth per day of firm capacity to the Ellisburg-Leidy Line. Of this total, 130,000 Dth per day of capacity would be allocated to National Fuel and 20,000 Dth per day would be allocated to Dominion. The applicants state that this incremental capacity, along with other capacity owned by Dominion and National Fuel, will be leased to Tennessee Gas Pipeline Company (Tennessee). The leases are the subject of other jointly-filed applications.¹ The estimated cost of the proposed facilities is $9.4 million.

¹ The lease between Tennessee and Dominion is the subject of Docket No. CP02-47-000. The lease between Tennessee and National Fuel is the subject of Docket No. CP02-48-000.

Any questions regarding the application should be directed to David W. Reitz, Assistant General Counsel, National Fuel Gas Supply Corporation, 10 Lafayette Square, Buffalo, New York 14203 at 716-857-7949 or by E-mail at reitzd@natfuel.com and Sean R. Sleigh, Certificates Manager, Dominion Transmission, Inc., 445 West Main Street, Clarksburg, West Virginia 26301 at 304-627-3462 or by E-mail at sean_r_sleigh@dom.com.

There are two ways to become involved in the Commission's review of this project. First, any person wishing to obtain legal status by becoming a party to the proceedings for this project should, on or before January 18, 2002, file with the Federal Energy Regulatory Commission, 888 First Street, NE, Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 02-173 Filed 1-3-02; 8:45 am]

BILLING CODE 6717-01-P